DEPARTMENT OF JUSTICE

Antitrust Division

Notice Pursuant to the National Cooperative Research and Production Act of 1993—United Technologies Research Center (“UTRC”): Open Software Tools for Condition Based Maintenance

Notice is hereby given that, on October 19, 1999, pursuant to section 6(a) of the National Cooperative Research and Production Act of 1993, 15 U.S.C. 4301 et seq. (“the Act”), United Technologies Research Center (“UTRC”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are United Technologies Corporation (“UTC”), Hartford, CT; and i2 Federal, Inc., Irving, TX. The nature and objectives of the venture are to engage in cooperative research and development in the area of Open Software Tools for Condition Based Maintenance pursuant to an Advanced Technology Program with the National Institute of Standards and Technology.

Constance K. Robinson,
Director of Operations, Antitrust Division.

[FR Doc. 00-12048 Filed 5-11-00; 8:45 am]

BILLING CODE 4410-11-M